DEPARTMENT OF AGRICULTURE

Forest Service

Booger Placer Claim, Suction Dredging Nez Perce National Forest, Idaho County, Idaho

AGENCY: Forest Service, USDA.

ACTION: Notice; intent to prepare environmental impact statement.

SUMMARY: The Forest Service will prepare an environmental impact statement (EIS) to analyze and disclose the environmental effects of dredging on the Booger placer claim on Little Elk Creek. The claimant has proposed using one eight-inch suction dredge to remove possible gold deposits from the gravel and at bedrock in the stream channel of Little Elk Creek. The operation is proposed for five years, to operate when water and weather conditions allow. The Booger placer claim is located in Section 33, T30N, R8E, BPM.

DATES: Written comments and suggestions should be received on or before June 19, 2000, to receive timely consideration in the preparation of the draft EIS.

ADDRESSES: Send written comments and suggestions on the proposed action or requests for a map of the proposed action or to be placed on the project mailing list to Kevin Martin, District Ranger, Red River Ranger District, P.O. Box 416, Elk City, Idaho 83525.

FOR FURTHER INFORMATION CONTACT: Jo Ellis, District Geologist, Red River Ranger District, P.O. Box 416, Elk City, Idaho 83525, phone (208) 842-2245.

SUPPLEMENTARY INFORMATION: The proposed action is proposed pursuant to the 1872 Mining Law, the Organic Administration Act of 1897 and Forest Service mining regulations, Title 36 Code of Federal Regulation (CFR), Part 228, Subpart A. The United States mining laws at 30 U.S.C. 21-54 Confer a statutory right to enter upon the public land to search for and remove certain minerals. The Forest Service has the responsibility to make sure that the activities are conducted so as to minimize adverse environmental impacts to National Forest System lands, 36 CFR, Part 228, Subpart A.

The proposal involves processing streambed gravel to bedrock over the entire 4,020 foot length of the claim. Deeps of the gravel are between three and six feet deep. The stream channel, between high water marks, varies from six to ten feet in width. This work would take place over five years of more whenever water and weather conditions allow operations.

The process involves utilizing high-pressure water pumps driven by gasoline-powered motors, which create suction in a flexible intake pipe. A mixture of streambed sediment and water is vacuumed into the intake pipe and passed over a sluice box mounted on a floating barge. Dense particles (including gold) are trapped in the sluice box. The remainder of the entrained material is discharged into the stream as tailings or spoils. A hole is created in the gravel so bedrock is exposed. Cracks in the bedrock are then cleared with the suction. Cable attached to a winch move large boulders or rootwads.

The Forest Service will consider a range of alternatives to the proposed action. One of these will be the “no action” alternative, in which the Plan of Operations would not be approved. Additional alternatives will examine varying intensity and duration of the proposed activities, including restrictions on the size of equipment and length of seasonal operation, as well as respond to the issues and other resource values.

Public participation is an important part of the project, commencing with the initial scoping process (40 CFR 1501.7), which starts with publication of this notice and continues for the next 30 days. In addition, the public is encouraged to visit with Forest Service officials at any time during the analysis and prior to the decision. The Forest Service will be seeking information, comments, and assistance from Federal, State, and local agencies, the Nez Perce Tribe, and other individuals or organizations that may be interested in or affected by the proposed action.

Comments from the public and other agencies will be used in preparation of the draft EIS. The scoping process will be used to:

1. Identify potential issues;

2. Identify major issues to be analyzed in depth;

3. Eliminate minor issues or those that have been covered by a relevant previous environmental analysis, such as the Nez Perce National Forest Plan EIS;

4. Identify alternatives to the proposed action;

5. Identify potential environmental effects of the proposed action and alternatives (i.e., direct, indirect, and cumulative effects).

While public participation in this analysis is welcome at any time, comments received within 30 days of the publication of this notice will be especially useful in the preparation of the draft EIS, which is expected to be filed with the Environmental Protection Agency and available for public review in July 2000. A 45-day comment period will follow publication of a Notice of Availability of the draft EIS in the Federal Register. The comments received will be analyzed and considered in preparation of a final EIS, which is expected to be filed in October 2000. A Record of Decision will be issued not less than 30 days after publication of a Notice of Availability of the final EIS in the Federal Register.

The Forest Service believes it is important at this early stage to give reviewers notice of several court rulings related to public participation in the environmental review process. First, reviewers of draft EISs must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Kevin Martin is the responsible official for this environmental impact statement.

Dated: May 5, 2000.
Kevin Martin,
District Ranger, Red River Ranger District, Nez Perce National Forest.

[FR Doc. 00-12476 Filed 5-17-00; 8:45 am]

BILLING CODE 3410-11-M